SECURITIES AND EXCHANGE COMMISSION

[Release No. 34-99859; File No. SR-OPRA-2023-01]

Joint Industry Plan; Withdrawal of Proposed Amendment To Modify the Options Price Reporting Authority's Fee Schedule Regarding Caps on Certain Port Fees

March 26, 2024.

On July 14, 2023, the Options Price Reporting Authority (“OPRA”), pursuant to Section 11A of the Securities Exchange Act of 1934 (“Act”) ¹ and Rule 608 of Regulation National Market System (“Regulation NMS”) thereunder,² filed with the Securities and Exchange Commission (“Commission”), a proposed amendment to the Plan for Reporting of Consolidated Options Last Sale Reports and Quotation Information (“OPRA Plan”).³ The proposed OPRA Plan amendment (“Proposed Amendment”) would have amended the OPRA Fee Schedule to reflect the applicable monthly fee caps on certain connectivity ports that are used to access OPRA data. The Proposed Amendment was published for comment in the Federal Register on August 2, 2023.⁴

¹ 15 U.S.C. 78k-1.

² 17 CFR 242.608.

³ The OPRA Plan is a national market system plan approved by the Commission pursuant to Section 11A of the Act and Rule 608 thereunder. See Securities Exchange Act Release No. 17638 (Mar. 18, 1981), 22 SEC. Docket 484 (Mar. 31, 1981). The full text of the OPRA Plan and a list of its participants are available at https://www.opraplan.com/. The OPRA Plan provides for the collection and dissemination of last sale and quotation information on options that are traded on the participant exchanges.

⁴ See Securities Exchange Act Release No. 98012 (July 27, 2023), 88 FR 50939 (Aug. 2, 2023).

On September 25, 2023, the Commission instituted proceedings pursuant to Rule 608(b)(2)(i) of Regulation NMS ⁵ to determine whether to disapprove the Proposed Amendment or to approve the Proposed Amendment with any changes or subject to any conditions the Commission deems necessary or appropriate.⁶ On January 25, 2024, the Commission designated a longer period within which to conclude proceedings regarding the Proposed Amendment and designated March 29, 2024, as the date by which the Commission would conclude the proceedings.⁷

⁵ 17 CFR 242.608(b)(2)(i).

⁶ See Securities Exchange Act Release No. 98514 (Sept. 25, 2023), 88 FR 67398 (Sept. 29, 2023).

⁷ See Securities Exchange Act Release No. 99431 (Jan. 25, 2024), 89 FR 6160 (Jan. 31, 2024).

The Commission is publishing this notice to reflect that, on March 21, 2024, OPRA withdrew the Proposed Amendment.

For the Commission, by the Division of Trading and Markets, pursuant to delegated authority.⁸
⁸ 17 CFR 200.30-3(a)(85).
Sherry R. Haywood,
Assistant Secretary.

[FR Doc. 2024-06779 Filed 3-29-24; 8:45 am]

BILLING CODE 8011-01-P